SMALL BUSINESS ADMINISTRATION

[Declaration of Disaster #3283]

State of Connecticut

Fairfield County and the contiguous Counties of Litchfield and New Haven in the State of Connecticut and Dutchess, Putnam, and Westchester Counties in New York constitute a disaster area as a result of damages caused by heavy rains and flooding that occurred on August 11, 2000. Applications for loans for physical damage from this disaster may be filed until the close of business on November 20, 2000 and for economic injury until the close of business on June 21, 2001 at the address listed below or other locally announced locations: U.S. Small Business Administration, Disaster Area 1 Office, 360 Rainbow Boulevard South, 3rd Floor, Niagara Falls, NY 14303.

The interest rates are:

For Physical Damage

Homeowners with Credit Available Elsewhere: 7.375%

Homeowners Without Credit Available Elsewhere: 3.687%

Businesses With Credit Available Elsewhere: 8.000%

Businesses and Non-Profit Organizations Without Credit Available Elsewhere: 4.000%

Others (Including Non-Profit Organizations) With Credit Available Elsewhere: 6.750%

For Economic Injury

Businesses and Small Agricultural Cooperatives Without Credit Available Elsewhere: 4.000%

The numbers assigned to this disaster for physical damage are 328306 for Connecticut and 328406 for New York. For economic injury the numbers are 9I4100 for Connecticut and 9I4200 for New York.

(Catalog of Federal Domestic Assistance Program Nos. 59002 and 59008)
Date: September 21, 2000
Aida Alvarez,
Administrator.

[FR Doc. 00-24957 Filed 9-28-00; 8:45 am]

BILLING CODE 8025-01-P